DEPARTMENT OF DEFENSE

Defense Acquisition Regulations System

48 CFR Part 252

Defense Federal Acquisition Regulation Supplement; Technical Amendment

AGENCY: Defense Acquisition Regulations System, Department of Defense (DoD).

ACTION: Final rule.

SUMMARY: DoD is issuing a technical amendment to the Defense Federal Acquisition Regulation Supplement (DFARS) to correct a reference to a paragraph in a FAR clause.

DATES: Effective Date: May 7, 2010.

FOR FURTHER INFORMATION CONTACT: Ms. Ynette R. Shelkin, Defense Acquisition Regulations System, OUSD (AT&L) DPAP (DARS), Room 3B855, 3060 Defense Pentagon, Washington, DC 20301-3060. Telephone 703-602-8384; facsimile 703-602-0350.

SUPPLEMENTARY INFORMATION: This final rule amends DFARS text at 252.204-7007, Alternate A, Annual Representations and Certifications, by correcting the paragraph reference to FAR 52.204-8 from paragraph (c) to paragraph (d).

List of Subjects in 48 CFR Part 252

Government procurement.

Ynette R. Shelkin,
Editor, Defense Acquisition Regulations System.

Therefore DoD is amending 48 CFR part 252 as follows:

1. The authority citation for 48 CFR part 252 continues to read as follows:

Authority: 41 U.S.C. 421 and 48 CFR chapter 1.

PART 252—SOLICITATION PROVISIONS AND CONTRACT CLAUSES

252.204-7007 [Amended]

2. Amend section 252.204-7007 by revising the clause date to read “(MAY 2010)” and the paragraph designation in the FAR provision to read “(d)”.

[FR Doc. 2010-10757 Filed 5-6-10; 8:45 am]

BILLING CODE 5001-08-P